DEPARTMENT OF TRANSPORTATION

Federal Highway Administration

Notice of Intent To Prepare a Supplemental Environmental Impact Statement: Fond du Lac & Sheboygan Counties, WI

AGENCY: Federal Highway Administration (FHWA), DOT.

ACTION: Notice.

SUMMARY: The FHWA is issuing this notice to advise the public that a limited scope Supplemental Environmental Impact Statement (SEIS) will be prepared for the proposed capacity improvements to Wisconsin Highway 23 from U.S. Highway 151 to County Highway P in Fond du Lac and Sheboygan Counties, Wisconsin.

FOR FURTHER INFORMATION CONTACT: Bethaney Bacher-Gresock, Environmental Program Manager, FHWA, 525 Junction Road, Suite 8000, Madison, WI 53717-2157; Telephone: (608) 662-2119. You may also contact Rebecca Burkel, Director, Bureau of Technical Services, Wisconsin Department of Transportation, 3502 Kinsman Blvd., Madison, WI 53704-2549; Telephone (608) 246-5399.

SUPPLEMENTARY INFORMATION: The FHWA, in cooperation with the Wisconsin Department of Transportation (WisDOT) will prepare a limited scope SEIS in accordance with 23 CFR 771.130(f) and 40 CFR 1502.9 for the proposed capacity improvements along approximately 19 miles of Wisconsin Highway 23 from U.S. Highway 151 in the City of Fond du Lac to County Highway P in the City of Plymouth, in Fond du Lac and Sheboygan Counties, Wisconsin. The purpose of the SEIS is to clarify certain parts of the previously approved June 3, 2010 Final Environmental Impact Statement (FEIS) and to reconsider certain portions, including parts of the Section 4(f) evaluation and indirect and cumulative impacts analysis. In accordance with its regulations, FHWA also will evaluate and provide additional analysis, if needed, on any new or changed impacts to the human and natural environment since the issuance of the Record of Decision (ROD) on September 27, 2010. The ROD selected a build alternative involving construction of a 4-lane divided highway along the existing Wisconsin Highway 23 alignment, three interchanges (at County Highway K, County Highway UU, and County Highway G), and local road and access improvements. The ROD also selected a corridor preservation alternative for the Wisconsin Highway 23 corridor (except for the U.S. 151 interchange where there will be no corridor preservation), to preserve the right-of-way needed for future interchanges and grade separations.

The SEIS will follow the same process and format as the original EIS (Draft EIS, FEIS, and ROD), except that scoping is not required. The FEIS and ROD are available at http://www.dot.wisconsin.gov/projects/neregion/23/environ.htm.

Public involvement is a critical component of the National Environmental Policy Act (NEPA) project development process and will occur throughout the development of the environmental documents. Environmental documents will be made available for review by resource agencies and the public. Public hearing(s) will be held following the availability of the Draft SEIS and as necessary. The public hearing(s) will be accessible and held at a convenient time and location. Individuals will be provided the opportunity to offer official comments by publicly expressing their views to representatives of WisDOT and others in attendance, privately to a court reporter, or by submitting written comments. WisDOT will provide FHWA with a transcript of the public hearing(s) and copies of submitted written comments.

Letters describing the proposed action and soliciting comments will be sent to the appropriate Federal, State, and local agencies, and to private organizations and citizens who have previously expressed or are known to have interest in this proposed project. To ensure that the full range of issues related to this proposed action are addressed and all significant issues are identified, comments and suggestions are invited from interested parties. Comments or questions concerning this proposed action and the SEIS should be directed to the FHWA at the address above.

(Catalog of Federal Domestic Assistance Program Number 20.205, Highway, Planning, and Construction. The regulations implementing Executive Order 12372 regarding the intergovernmental consultation on Federal programs and activities apply to this program.)

Issued on: January 11, 2012.
R. Kirk Fredrichs,
Assistant Division Administrator, Federal Highway Administration, Madison, Wisconsin.

[FR Doc. 2012-925 Filed 1-18-12; 8:45 am]

BILLING CODE 4910-22-P